DEPARTMENT OF VETERANS AFFAIRS

Advisory Committee on Homeless Veterans; Notice of Meeting

The Department of Veterans Affairs (VA) gives notice under Public Law 92-463 (Federal Advisory Committee Act) that a meeting of the Advisory Committee on Homeless Veterans will be held on December 15-16, 2008, at the Ritz Carlton New Orleans, 921 Canal Street, New Orleans, Louisiana, in room Union Terrace A. The sessions will start at 8 a.m. and end at 4 p.m. each day. The meeting is open to the public.

The purpose of the Committee is to provide the Secretary of Veterans Affairs with an on-going assessment of the effectiveness of the policies, organizational structures, and services of the Department in assisting homeless veterans. The Committee shall assemble and review information relating to the needs of homeless veterans and provide advice on the most appropriate means of offering assistance to homeless veterans. The Committee will make recommendations to the Secretary regarding such activities.

On December 15, the Committee will receive briefings from VA and other federal departments on programs and activities affecting homeless veterans. On December 16, the Committee will continue to receive informational presentations and will begin its discussion of recommendations to be included in the upcoming annual report.

Those wishing to attend the meeting should contact Mr. Pete Dougherty, Department of Veterans Affairs, at (202) 461-7401. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: November 4, 2008.
By direction of the Secretary.
E. Philip Riggin,
Committee Management Officer.

[FR Doc. E8-26861 Filed 11-10-08; 8:45 am]

BILLING CODE 8320-01-P